DEPARTMENT OF AGRICULTURE

Forest Service

Black Hills National Forest, Northern Hills Ranger District, SD, Citadel Project Area Proposal and Analysis

AGENCY: Forest Service, USDA.

ACTION: Notice of intent to prepare an environmental impact statement.

SUMMARY: The Forest Service will prepare an environmental impact statement on a proposal to implement multiple resource management actions within the Citadel Project Area as directed by the amended Black Hills National Forest Land and Resource Management Plan. The Citadel Project Area covers approximately 28,000 acres of National Forest System land and approximately 5,500 acres of interspersed private land southwest of Spearfish, South Dakota. proposed actions include a combination of vegetation and fuels treatments to reduce crown fire risks, reduce mountain pine beetle susceptibility, and improve wildlife habitat (particularly big game winter range). The proposed vegetative management actions include 11,000 acres of commercial thinning, 2,600 acres of overstory removal, 2,100 acres of pre-commercial thinning, 860 acres of commercial seed cuts, 200 acres of mechanical fuel treatments, and up to 14,000 acres of prescribed burning.

DATES: Comments concerning the scope of the analysis must be received by September 1, 2006. The draft environmental impact statement is expected to be available December 2006 and the final environmental impact statement is expected to be completed by March 2007.

ADDRESSES: Send written comments to: Jane Eide, Acting District Ranger, Black Hills National Forest, Northern Hills Ranger District, 2014 North Main Street, Spearfish, SD 57783. Telephone number: (605) 642-4622, e-mail: comments-rocky-mountain-black-hills-northern-hills@fs.fed.us with ``Citadel'' as the subject.

FOR FURTHER INFORMATION CONTACT: Elizabeth Stiller, District Planner, Black Hills National Forest, Northern Hills Ranger District, 2014 North Main Street, Spearfish, SD 57783. Telephone number: (605) 642-4622.

SUPPLEMENTARY INFORMATION: Purpose of and Need for Action: The purpose of and need for the actions proposed in the Citadel Project is to: Reduce the acres at high or medium risk for crown fire; Reduce acres of high or medium susceptibility to mountain pine beetle; and Improve wildlife habitat with an emphasis on big game winter range. All actions are intended to move toward or achieve related Forest Plan Goals and Objectives, consistent with Forest Plan Standards and Guidelines.

Proposed Action: Proposed actions include the following:

Reduce the acres at high or medium risk for crown fire by thinning stands to decrease crown proximity. Thinning may use commercial or non-commercial methods. Fuel reduction treatments could include lopping, chipping, crushing, piling and burning, construction of fuel breaks, and broadcast prescribed burning.

Reduce acres at high or medium susceptibility to mountain pine beetle by thinning stands and changing stand structure. Commercial and non-commercial (including burning) methods may be used.

Improve wildlife habitat by understory thinning or removal to encourage increased and improved forage. Non-commercial methods of prescribed burning, cutting, and chopping may be used. Improve old growth characteristics by understory treatment which includes cutting, chopping, and burning.

Responsible Official: District Ranger, Black Hills National Forest, Northern Hills Ranger District, 2014 North Main Street, Spearfish, SD 57783.

Nature of Decision To Be Made: The decision to be made is whether or not to implement the proposed action or alternatives at this time.

Scoping Process: Comments and input regarding the proposal were requested from the public, other groups, and other agencies via direct mailing and a public meeting in May/June 2006. The comment period remains open through September 1, 2006. Also, response to the draft EIS will be sought from the interested public beginning approximately December 2006.

Comment Requested: This notice of intent initiates the scoping process which guides the development of the environment impact statement. It is our desire to involve interested parties and especially adjacent landowners in identifying the issues related to proposed activities. Comments will assist in identification of key issues and opportunities to develop project alternatives and mitigation measures.

Early Notice of Importance of Public Participation in Subsequent Environmental Review: A draft environmental impact statement will be prepared for comment. The comment period on the draft environmental impact statement will be 45 days (beginning approximately December 1, 2006) from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 533 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addressed of those who comment, will be considered part of the public record on this proposal and will be available for public inspection (40 CFR 1501.7 and 1508.22; Forest Service Handbook 1909.15, Section 21).

Dated: July 26, 2006.
Craig Bobzien,
Forest Supervisor.

[FR Doc. 06-6632 Filed 8-1-06; 8:45am]

BILLING CODE 3410-11-M